DEPARTMENT OF HEALTH AND HUMAN SERVICES

National Institutes of Health

National Library of Medicine Notice of Meetings Amended; Notice of Meeting

Notice is hereby given of a change in the meeting of the Board of Scientific Counselors, Lister Hill National Center for Biomedical Communications, September 11, 2014, 9:00 a.m. to September 12, 2014, 11:00 a.m., National Library of Medicine, Building 38, Board Room, 8600 Rockville Pike, Bethesda, MD 20892 which was published in the Federal Register on June 9, 2014, 79 FR 110, Page 32968.

The meeting of the Board of Scientific Counselors, Lister Hill National Center for Biomedical Communications, will be held on September 18-19, 2014 instead of September 11-12, 2014, at 9:00 a.m. and will end at 11:00 a.m. The meeting is partially closed to the public.

Dated: June 27, 2014.
Michelle Trout,
Program Analyst, Office of the Federal Advisory Committee Policy.

[FR Doc. 2014-15557 Filed 7-2-14; 8:45 am]

BILLING CODE 4140-01-P